DEPARTMENT OF THE INTERIOR

Fish and Wildlife Service

[FWS-R7-ES-2016-N105; FXES11130700000-167-FF07C00000]

Endangered and Threatened Wildlife and Plants; Recovery Permit Application

AGENCY: Fish and Wildlife Service, Interior.

ACTION: Notice of availability; request for comments.

SUMMARY: We, the U.S. Fish and Wildlife Service, invite the public to comment on the following application for a permit to conduct activities intended to enhance the survival of endangered species. Federal law prohibits certain activities with endangered species unless a permit is obtained.

DATES: To ensure consideration, please send your written comments by July 28, 2016.

ADDRESSES: You may submit comments by either of the following methods. You may also use one of the following methods to request more information or hard copies or a CD-ROM of the documents.

• Email: permitsR7ES@fws.gov. Please refer to Permit Number TE-99138B in the subject line of the message.

• U.S. Mail: U.S. Fish and Wildlife Service, MS 361, 1011 East Tudor Road, Anchorage, AK 99503.

FOR FURTHER INFORMATION CONTACT: Drew Crane, Endangered Species Coordinator, Ecological Services, (907) 781-3323 (phone); permitsR7ES@fws.gov (email).

SUPPLEMENTARY INFORMATION:

Background

The Endangered Species Act of 1973, as amended (16 U.S.C. 1531 et seq.), prohibits certain activities with endangered and threatened species unless the activities have been authorized by a Federal permit. The Act and its implementing regulations in part 17 of title 50 of the Code of Federal Regulations (CFR) provide for the issuance of such permits and require that we invite public comment before issuing permits for activities involving endangered species.

A permit granted by us under section 10(a)(1)(A) of the Act authorizes the permittee to conduct activities with U.S. endangered or threatened species for scientific purposes, enhancement of propagation or survival, or interstate commerce (the latter only in the event that it facilitates scientific purposes or enhancement of propagation or survival). Our regulations implementing section 10(a)(1)(A) of the Act for these permits are found at 50 CFR 17.22 for endangered wildlife species, 50 CFR 17.32 for threatened wildlife species, 50 CFR 17.62 for endangered plant species, and 50 CFR 17.72 for threatened plant species.

Application Available for Review and Comment

We invite local, State, and Federal agencies and the public to comment on the following application. Documents and other information the applicant has submitted with the application are available for review, subject to the requirements of the Privacy Act (5 U.S.C. 552a) and Freedom of Information Act (5 U.S.C. 552).

Permit Application Number TE-99138B

Applicant: U.S. Fish and Wildlife Service, Anchorage, AK.

The applicant requests a permit to collect genetic material from Aleutian shield ferns (Polystichum aleuticum) in Alaska for the purpose of enhancing the species' survival.

National Environmental Policy Act

The proposed activities in the requested permit qualify as categorical exclusions under the National Environmental Policy Act, as provided by Department of the Interior implementing regulations in part 46 of title 43 of the CFR (43 CFR 46.205, 46.210, and 46.215).

Public Availability of Comments

All comments and materials we receive in response to this notice will be available for public inspection, by appointment, during normal business hours at the address listed above in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: June 20, 2016.
Mary Colligan,
Assistant Regional Director, Alaska Region.

[FR Doc. 2016-15288 Filed 6-27-16; 8:45 am]

BILLING CODE 4333-15-P